DEPARTMENT OF AGRICULTURE

Submission for OMB Review; Comment Request

April 26, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 1, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal Plant and Health Inspection Service

Title: SARS-CoV-2 Testing in Animals Reporting Activities.

OMB Control Number: 0579-0476.

Summary of Collection: The Animal Health Protection Act (AHPA) of 2002 governs the protection of animal health and it provides the Secretary of Agriculture broad authority to detect, control, or eradicate pests or diseases of agricultural animals and animal products. Under section 8219 of the Public Health Security and Bioterrorism Preparedness and Response Act of 2002, the USDA may also collaborate and coordinate with the Department of Health and Human Services for the surveillance of zoonoses disease. Further, collection and dissemination of animal and poultry health data and information is mandated by 7 U.S.C. 391 and 21 U.S.C. 119. To better meet its reporting requirements about emerging diseases to the OIE, APHIS is interested in collecting information as to the detection of severe acute respiratory syndrome coronavirus 2 (SARS-CoV-2) in animals. To accomplish this, APHIS will distribute a request for information to U.S. laboratories engaged in the testing of animals for SARS-CoV-2, develop a questionnaire in NAHRS, and request that State animal health officials and U.S. laboratories provide SARS-CoV-2 animal testing data on a monthly basis.

Need and Use of the Information: Collection, analysis, and dissemination of animal and poultry health information is consistent with APHIS's mission of protecting and improving American agriculture's productivity and competitiveness. APHIS uses the National Animal Health Reporting System (NAHRS) for reporting and tracking the emergence, prevalence, epidemiology, and economic importance of diseases in livestock, poultry, and other animals. The system facilitates standardization of disease information throughout the United States, provides a central point for the collection of national data, and assists APHIS in meeting its animal disease reporting obligations to the World Organization for Animal Health (OIE).

Description of Respondents: State animal scientists, U.S. laboratory personnel, and veterinarians.

Number of Respondents: 77.

Frequency of Responses: Reporting: Monthly.

Total Burden Hours: 1,626.

Ruth Brown,
Departmental Information Collection Clearance Officer.

[FR Doc. 2021-08981 Filed 4-28-21; 8:45 am]

BILLING CODE 3410-34-P